DEPARTMENT OF LABOR

Employment and Training Administration

[TA-W-58,935]

WSW Company of Sharon, Inc., a Subsidiary of Wormser Company, Sharon, TN; Notice of Affirmative Determination Regarding Application for Reconsideration

By application of May 2, 2006, petitioners requested administrative reconsideration of the Department of Labor's Notice of Negative Determination Regarding Eligibility to Apply for Worker Adjustment Assistance, applicable to workers of the subject firm. The determination was issued on April 5, 2006. The Department's Notice of determination was published in the Federal Register on April 18, 2006 (71 FR 19900).

The negative determination was issued on the finding that, during the relevant period, the subject workers neither produced an article within the meaning of the Trade Act nor supported a domestic production facility that was import-impacted because production at WSW Company, Sharon, Tennessee ceased in 2004.

The request for reconsideration alleges that the workers are engaged in activity related to production by Wormser Company, the parent company, which occurred during the relevant period.

The Department has carefully reviewed the workers' request for reconsideration and has determined that the Department will conduct further investigation based on new information provided.

Conclusion

After careful review of the application, I conclude that the claim is of sufficient weight to justify reconsideration of the Department of Labor's prior decision. The application is, therefore, granted.

Signed at Washington, DC, this 10th day of May 2006.
Elliott S. Kushner,
Certifying Officer, Division of Trade Adjustment Assistance.

[FR Doc. E6-7614 Filed 5-18-06; 8:45 am]

BILLING CODE 4510-30-P